DEPARTMENT OF AGRICULTURE

Natural Resources Conservation Service

Mississippi Trustee Implementation Group Deepwater Horizon Oil Spill Final Restoration Plan 4 and Environmental Assessment: Restoration of Wetlands, Coastal, and Nearshore Habitats; Nutrient Reduction (Nonpoint Source); and Provide and Enhance Recreational Opportunities; and Finding of No Significant Impact

AGENCY: Natural Resources Conservation Service (NRCS), U.S. Department of Agriculture (USDA).

ACTION: Notice of availability.

SUMMARY: In accordance with the Oil Pollution Act of 1990 (OPA), the National Environmental Policy Act of 1969 (NEPA), the Deepwater Horizon (DWH) Oil Spill Final Programmatic Damage Assessment Restoration Plan and Final Programmatic Environmental Impact Statement and Record of Decision, and the Consent Decree referenced below, the Federal and State natural resource trustee agencies for the Mississippi Trustee Implementation Group (MS TIG) have prepared and are making available to the public the “Mississippi Trustee Implementation Group Final Restoration Plan 4 and Environmental Assessment: Restoration of Wetlands, Coastal, and Nearshore Habitats; Nutrient Reduction (Nonpoint Source), and Provide and Enhance Recreational Opportunities” (Final RP4 and EA); and Finding of No Significant Impact (FONSI). The Final RP4 and EA analyzes projects to partially restore wetlands, coastal, and nearshore habitats; reduce nutrient pollution (nonpoint source); and provide and enhance recreational opportunities to compensate for lost recreational use in the Mississippi Restoration Area resulting from the DWH oil spill. The Final RP4 and EA evaluates a reasonable range of project alternatives under OPA, the OPA Natural Resources Damage Assessment (NRDA) regulations, and NEPA and the NEPA implementing regulations, and selects seven projects for funding and implementation. A No Action alternative is also evaluated for each of the restoration types. The estimated cost to implement MS TIG's proposed action (seven preferred alternatives) is $26.4 million. Of this amount, $18,500,000 will be funded from the Wetlands, Coastal and Nearshore Habitats restoration allocation, $5,000,000 from the Nutrient Reduction restoration allocation, and $2,853,000 from the Recreational Use restoration allocation.

ADDRESSES: Obtaining Documents: You may download the Final RP4 and EA and FONSI from the following website: https://gulfspillrestoration.noaa.gov/media/document/2024-01-ms-final-rp4ea in the “Restoration Plans” section. Alternatively, you may request a CD of the Final RP4 and EA (see FOR FURTHER INFORMATION CONTACT).

FOR FURTHER INFORMATION CONTACT: Nanciann Regalado at nanciann_regalado@fws.gov or 678-296-6805, or via the Federal Relay Service at 800-877-8339; Ronald Howard, Senior Advisor, USDA Gulf Coast Ecosystem Restoration Team, at ron.howard@usda.gov; and Dr. Tina Nations, NRDA Program Manager, MDEQ Office of Restoration, at mississippiTIG@mdeq.ms.gov. Individuals who require alternative means for communication should contact the USDA TARGET Center at (202) 720-2600 (voice and text telephone (TTY)) or dial 711 for Telecommunications Relay Service (both voice and text telephone users can initiate this call from any telephone).

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The DWH Federal and State natural resource trustees (DWH Trustees) conducted NRDA for the DWH oil spill under OPA (33 U.S.C. 2701-2720). Pursuant to OPA, Federal, and State agencies act as trustees on behalf of the public, to assess natural resources injuries and losses and to determine the actions required to compensate the public for those injuries and losses. OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• USDA;

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a Consent Decree resolving civil claims by the DWH Trustees against BP arising from the DWH oil spill: United States v. BPXP et al., Civ. No. 10-4536, centralized in MDL 2179, In re: Oil Spill by the Oil Rig “Deepwater Horizon” in the Gulf of Mexico, on April 20, 2010 (E.D. La.) (https://www.justice.gov/enrd/deepwater-horizon). Pursuant to the Consent Decree, restoration projects in the Mississippi Restoration Area are chosen and managed by MS TIG. MS TIG is composed of the following Trustees: State of Mississippi Department of Environmental Quality; DOI; NOAA; EPA; and USDA.

On February 7, 2022, MS TIG posted public notice requesting natural resource restoration project ideas by March 7, 2022, for the Mississippi Restoration Area. The notice stated that MS TIG was seeking project ideas for the following restoration types:

(1) Wetlands, Coastal, and Nearshore Habitat;

(2) Nutrient Reduction; and

(3) Provide and Enhance Recreational Opportunities.

On October 11, 2022, the MS TIG announced that it had initiated drafting of the RP4 and EA (https://www.gulfspillrestoration.noaa.gov/2022/10/notice-initiation-restoration-planning-mississippi) and that the plan may include proposed projects for some or all of the three restoration types.

Overview of the MS TIG Draft RP4 and EA

MS TIG released the Draft RP4 and EA for public review and comment announced through a notice published in the Federal Register on August 31, 2023 (88 FR 60174-60176). The 30-day comment period for the notice closed on October 2, 2023. To facilitate public understanding of the document, MS TIG released a pre-recorded webinar on September 12, 2023, which had been announced in the August notice. In addition, the Draft RP and EA was made available to the public through a web story posted on MS TIG's website (www.gulfspillrestoration.noaa.gov). Informally, MS TIG accepted additional public comments through October 13, 2023, as announced on the MS TIG's website. MS TIG received three comments from the public. MS TIG reviewed the comments received, prepared responses to those comments, finalized the RP4 and EA, and prepared a FONSI.

Overview of MS TIG Final RP4 and EA

In the Final RP4 and EA, MS TIG analyzes a reasonable range of 10 restoration alternatives and, pursuant to NEPA, a no action alternative for each of the restoration types. MS TIG selected seven preferred alternatives for funding and implementation, which are listed in the table below:

Restoration Type: Wetlands, Coastal and Nearshore Habitat:
Coastwide Habitat Acquisition.
Living Shoreline Bulkhead Alternative.
Hancock County Marsh Living Shoreline Phase 6 Breakwater.
Restoration Type: Nutrient Reduction (Nonpoint Source):
Back Bay—Davis Bayou Nutrient Reduction.
Big Cedar Creek—Rocky Creek Nutrient Reduction.
Restoration Type: Provide and Enhance Recreational Opportunities:
Jourdan River Boardwalk.
Shepard State Park Recreational Enhancements—1.

Administrative Record

The documents comprising the Administrative Record for the Final RP4 and EA can be viewed electronically at https://www.doi.gov/deepwaterhorizon/adminrecord under the folder 6.5.6.2.4.

Authorities

The authorities for this action are OPA, its implementing NRDA regulations in 15 CFR part 990; and NEPA (42 U.S.C. 4321—4347) and its implementing regulations in 40 CFR parts 1500-1508.

Ronald Howard,
Senior Technical Advisor, Natural Resource Specialist, Natural Resources Conservation Service, and U.S. Department of Agriculture, Alternate to Principal Representative.

[FR Doc. 2024-00167 Filed 1-8-24; 8:45 am]

BILLING CODE 3410-16-P